DEPARTMENT OF THE INTERIOR

National Park Service

[NPS-WASO-NAGPRA-NPS0030586; PPWOCRADN0-PCU00RP14.R50000]

Notice of Inventory Completion: San Diego Museum of Man, San Diego, CA

AGENCY: National Park Service, Interior.

ACTION: Notice.

SUMMARY: The San Diego Museum of Man has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the San Diego Museum of Man. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the San Diego Museum of Man at the address in this notice by September 2, 2020.

ADDRESSES: Kara Vetter, Director of Cultural Resources of the San Diego Museum of Man, 1350 El Prado, Balboa Park, San Diego, CA 92101, telephone (619) 239-2001 Ext. 44, email kvetter@museumofman.org.

SUPPLEMENTARY INFORMATION: Notice is here given in accordance with the Native American Graves Protection and Repatriation Act (NAGPRA), 25 U.S.C. 3003, of the completion of an inventory of human remains and associated funerary objects under the control of the San Diego Museum of Man, San Diego, CA. The human remains and associated funerary objects were removed from Jamul Indian Village, San Diego, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the San Diego Museum of Man professional staff in consultation with representatives of the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California (previously listed as the Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation (hereafter referred to as “The Consulted Tribes”).

History and Description of the Remains

Sometime between 1930 and 1950, human remains representing, at a minimum, one individual were removed by Malcolm J. Rogers, on behalf of the San Diego Museum of Man, from W-323, an archeological site located just south-east of Jamul in San Diego County, CA, for the purpose of archeological research. The age and sex of this individual could not be determined. No known individual was identified. The 78 associated funerary objects are three faunal bones, one decorated sherd, 11 undecorated sherds, two bifaces, two choppers, two cores, six core tools, two projectile points, 16 scrapers, seven unworked flakes, 13 utilized flakes, three manos, one shaft straightener, two historic glass sherds, one ecofact, one unmodified shell, and five battered stones.

Site W-323 has been estimated to be approximately 8,000 years old based on associated lithics. There are signs of continuous occupation from prehistoric times to the present. This site falls well within the established Kumeyaay territory, and is geographically situated on the Jamul Indian Village Reservation. Kumeyaay oral history, and ethnographic and historical records specific to the Jamul Indian Village of California are consistent with the archeological findings.

Determinations Made by the San Diego Museum of Man

Officials of the San Diego Museum of Man have determined that:

• Pursuant to 25 U.S.C. 3001(9), the human remains described in this notice represent the physical remains of one individual of Native American ancestry.

• Pursuant to 25 U.S.C. 3001(3)(A), the 78 objects described in this notice are reasonably believed to have been placed with or near individual human remains at the time of death or later as part of the death rite or ceremony.

• Pursuant to 25 U.S.C. 3001(2), there is a relationship of shared group identity that can be reasonably traced between the Native American human remains and associated funerary objects and the Jamul Indian Village of California.

Additional Requestors and Disposition

Lineal descendants or representatives of any Indian Tribe or Native Hawaiian organization not identified in this notice that wish to request transfer of control of these human remains and associated funerary objects should submit a written request with information in support of the request to Kara Vetter, Director of Cultural Resources of the San Diego Museum of Man, 1350 El Prado, Balboa Park, San Diego, CA 92101, telephone (619) 239-2001 Ext. 44, email kvetter@museumofman.org, by September 2, 2020. After that date, if no additional requestors have come forward, transfer of control of the human remains and associated funerary objects to the Jamul Indian Village of California may proceed.

The San Diego Museum of Man is responsible for notifying The Consulted Tribes that this notice has been published.

Dated: July 6, 2020.
Melanie O'Brien,
Manager, National NAGPRA Program.

[FR Doc. 2020-16781 Filed 7-31-20; 8:45 am]

BILLING CODE 4312-52-P